DEPARTMENT OF TRANSPORTATION

Federal Aviation Administration

14 CFR Part 93

Construction-Related Scheduling Relief Concerning Operations at Newark Liberty International Airport, Chicago O'Hare International Airport, Los Angeles International Airport, San Francisco International Airport, and Ronald Reagan Washington National Airport, March 1, 2025 Through June 15, 2025, and September 1, 2025, Through December 31, 2025

AGENCY: Federal Aviation Administration (FAA), Department of Transportation.

ACTION: Notification of limited waiver of slot usage requirement and limited scheduling relief.

SUMMARY: This notification announces a limited, conditional policy for prioritizing returned operations at Newark Liberty International Airport (EWR) due to a construction-related runway closure at EWR for purposes of establishing a carrier's operational baseline in the next corresponding scheduling seasons. A “returned operation” is any planned operation included in the initially approved schedules that a carrier moved or will not operate due to the effort to reach the targeted reduced schedule throughout the construction period at EWR. In addition, the FAA will provide similar limited, conditional relief at Chicago O'Hare International Airport (ORD), Los Angeles International Airport (LAX), and San Francisco International Airport (SFO) under the FAA's Level 2 schedule facilitation process as well as a limited, conditional waiver of minimum usage requirements at Ronald Reagan Washington National Airport (DCA), for impacted flights between EWR and the listed airports.

DATES: This action is effective November 20, 2024.

ADDRESSES: Requests may be submitted by mail to the Slot Administration Office, System Operations Services, AJR-0, Room 300W, 800 Independence Avenue SW, Washington, DC 20591, or by email to: 7-awa-slotadmin@faa.gov.

FOR FURTHER INFORMATION CONTACT: For questions concerning this notice contact: Al Meilus, Capacity and Slot Analysis, FAA ATO System Operations Services, AJR-G5, Federal Aviation Administration, 800 Independence Avenue SW, Washington, DC 20591; telephone 202-267-2822; email al.meilus@faa.gov.

SUPPLEMENTARY INFORMATION: This notification provides relief that will enable carriers to reduce operations at EWR without unduly impacting schedules in subsequent seasons during the following runway closure periods:

(1) Weekend closures from March 1, 2025, to April 14, 2025, and September 1, 2025, to December 31, 2025, from Friday at 11:00 p.m. through 5:00 a.m. on Sunday; and

(2) Daily closures from April 15, 2025, to June 15, 2025, for all hours.

Reducing operations will help prevent delays, optimize the efficient use of the airport's available resources, and deliver passengers to their destinations more reliably and on time.

Background

EWR will undergo airside construction projects conducted in several stages from 2024 through 2026 with varying impacts on airport capacity.

Weekend closures of Runway 4L-22R will be scheduled from March 1, 2025, to April 14, 2025, and September 1, 2025, to December 31, 2025, from Friday at 11:00 p.m. through 5:00 a.m. on Sunday.¹

¹ Times included in this notice are local time.

On April 15, 2025, EWR is scheduled to begin rehabilitation of Runway 4L-22R. This work will cause the continuous closure of Runway 4L-22R for 60 days, to June 15, 2025. Runways 4R-22L and 11-29 will remain operational during this period.

The FAA has designated EWR, ORD, LAX, and SFO, as Level 2 airports under the Worldwide Slot Guidelines (WSG).² The FAA does not allocate slots, apply historic precedence, or impose minimum usage requirements at EWR. Level 2 schedule facilitation depends upon close and continuous discussions and voluntary agreement between airlines and the FAA to reduce congestion. At Level 2 airports, the FAA generally provides priority consideration for flights approved by the FAA and operated by the carrier in those approved times in the prior scheduling season when the FAA reviews proposed flights for facilitation in the next corresponding scheduling season. Only those flights that were actually operated as approved in the prior scheduling season would generally receive priority for the next corresponding scheduling season. However, the FAA notes that the usual Level 2 processes include flexibility for the facilitator to prioritize planned flights, which are canceled in advance or on the day of the scheduled operation due to operational impacts that are beyond the control of the carrier.

² The FAA generally applies the WSG to the extent there is no conflict with U.S. law or regulation. The FAA recognizes the WSG has been replaced by the Worldwide Airports Slot Guidelines (WASG) edition 1, effective June 1, 2020, and subsequently WASG edition 2, effective July 1, 2022. The WASG is published jointly by Airports Council International-World, IATA, and the Worldwide Airport Coordinators Group (WWACG). While the FAA is considering whether to implement certain changes to the Guidelines in the United States, it will continue to apply WSG edition 9.

At DCA, each slot must be used a minimum of 80 percent of the time. At DCA, the FAA will recall any slot not used at least 80 percent of the time over a two-month period. The FAA may waive the 80 percent minimum usage requirement if a highly unusual and unpredictable condition beyond the control of the slot-holding air carrier affects carrier operations for a period of nine consecutive days or more at DCA.³

³ 33 FR 17896 (Dec. 3, 1968). The FAA codified the rules for operating at high-density traffic airports in 14 CFR part 93, subpart K. The HDR requires carriers to hold a reservation, known as a “slot,” for each takeoff or landing under instrument flight rules at the high-density traffic airports. Currently, only operations at DCA are limited by the HDR.

FAA Analysis

The current targeted scheduling limit at EWR is 77 operations per hour with 42 operations per half hour. The targeted maximum number of scheduled arrivals and departures, respectively, is 42 per hour and 23 per half hour daily from 6:00 a.m. to 11:59 p.m. ET.

Due to the volume of flights arriving and departing EWR, the weekend closures from March 1, 2025, to April 14, 2025, and Sepmber 1, 2025, to December 31, 2025, and the daily closure of Runway 4L-22R from April 15, 2025, to June 15, 2025, will significantly affect carriers' ability to operate reliably and on time. Absent increased scheduling flexibility during the construction period, the FAA anticipates a high likelihood of congestion, delays, and cancellations at EWR, with related impact at ORD, LAX, SFO, and DCA. The runway closure is expected to impact carrier operations at EWR in two phases throughout the day for both arrivals and departures. For arrivals, demand is higher from 6:00 a.m. through 2:00 p.m., and lowers slightly from 3:00 p.m. through the end of the day. For departures, demand is higher from 6:00 a.m. through 4:00 p.m., and lowers slightly from 7:00 p.m. through the end of the day.

The FAA modeled two scenarios of the expected delays at EWR for these two phases of the day for arrival and departures respectively: one scenario without any mitigation measures, and one scenario with arrival limit mitigation measures in place. The mitigation measures incorporate Air Traffic Control (ATC) data used to assess capacity at EWR throughout the construction period. These mitigation measures align with the number of operations that ATC finds to be sustainable during the runway closure, while accounting for the differing demand profiles.

For the scenario without any mitigation measures, the FAA estimates approximately 65% of total arrivals would be delayed by an average of 55.8 minutes per arrival, and 92% of total departures would be delayed by an average of 86.6 minutes per departure. These arrival delays would be unrecoverable throughout the day.

The FAA then modeled a scenario that limited operations to no more than 35 arrivals per hour through 2:00 p.m., and no more than 31 arrivals per hour from 3:00 p.m. to the end of the day. The FAA also modeled operations with no more than 35 departures per hour through 4:00 p.m., and no more than 31 departures per hour from 5:00 p.m. through the end of the day. The FAA arrived at these arrival and departure limits based on analysis of historical data from the previous closure of Runway 4L-22R due to construction in 2014. These numbers reflect the median rates that EWR was able to sustain under the constraint of a runway closure.

With these mitigation measures in place, the FAA estimates that approximately 21% of total arrivals would experience an average delay of about 38 minutes per delayed arrival, or an average of 7.9 minutes of delay per arrival, and approximately 44% of total departures would experience an average delay of about 39.9 minutes per delayed departure, or an average of 17.5 minutes of delay per departure.

The FAA determined that the mitigation measures will balance efficient and timely operations at EWR during the construction period and limit the impact on carrier's scheduled operations for the convenience of the flying public. Although the potential for some delays may still occur in the evening hours, a more stringent hourly targeted limit would result in some airport capacity being under-utilized.

Decision

The FAA has determined that the runway closures at EWR warrant limited, conditional schedule relief because the impacts to operations are beyond the carriers' control and extend throughout 2025. The targeted schedule reductions detailed below apply to both the weekend closures March 1, 2025, to April 14, 2025, and September 1, 2025, to December 31, 2025, and the daily closures from April 15, 2025, through June 15, 2025.

For arrivals, the FAA requests that carriers reduce operations to no more than 35 arrivals per hour from 6:00 a.m. through 2:00 p.m., and no more than 31 arrivals per hour from 3:00 p.m. through the end of the day, without moving operations into the adjacent hours. For departures, the FAA requests that carriers reduce operations to no more than 35 departures per hour from 6:00 a.m. through 4:00 p.m., and no more than 31 departures per hour from 5:00 p.m. through the end of the day. The FAA will not approve any new requested timings during the runway closure period. These targeted scheduling limits are effective from Friday at 11:00 p.m. through 5:00 a.m. on Sunday from March 1, 2025, to April 14, 2025, and September 1, 2025, to December 31, 2025, and continuously from April 15, 2025, through June 15, 2025.

Recognizing that the Summer 2025 Scheduling Season begins on March 30, 2025, the FAA will work with carriers to reduce schedules, if needed, through the transition from the Winter 2024/2025 Scheduling Season to the Summer 2025 Scheduling Season where the runway closures overlap with 2024/2025 Winter schedules.

The FAA is also extending a limited, conditional waiver from minimum usage requirements at DCA for service to and from EWR, and providing similar relief at ORD, LAX and SFO under the Level 2 process for approved schedules to and from EWR. Carriers may also choose to use those slots at DCA, or the approved runway times at ORD, LAX and SFO, for operations to airports other than EWR. If carriers choose to reduce their schedules between EWR-DCA or EWR and other Level 2 airports, the FAA encourages, to the extent practicable, carriers to utilize their slots or approved schedules to operate to other destinations.

Additionally, the FAA understands that terminal-related construction projects and shortened runways are planned at EWR between September 1, 2024, and December 31, 2025. The FAA will continue to work with the Port Authority of New York and New Jersey (PANYNJ) and other stakeholders throughout the various phases of this project. The FAA requests that carriers submit requests for relief associated with the terminal construction separate from this policy on an individual, as-needed basis, for the FAA's consideration. If needed, based on future analyses, the FAA may establish additional schedule reduction periods to accommodate these phases of the construction project.

Finally, the FAA notes that the Staffing-Related Relief is in place from October 27, 2024, through October 25, 2025.⁴ This relief cannot be combined with the Staffing-Related Relief.

⁴ Staffing-Related Relief Concerning Operations at Ronald Reagan Washington National Airport, John F. Kennedy International Airport, LaGuardia Airport, and Newark Liberty International Airport, October 27, 2024, through March 29, 2025 (Winter 2024/2025) and March 30, 2025, through October 25, 2025 (Summer 2025). 89 FR 49256 (June 11, 2024).

For the weekend runway closures from March 1, 2025, to April 14, 2025, and September 1, 2025, to December 31, 2025, and the daily runway closures from April 15, 2025, through June 15, 2025, the FAA will recognize priority of approved schedules or the historical precedence of related slots, subject to the following conditions:

(1) Slots or approved schedules for initial use in the Summer 2025 and Winter 2025/2026 scheduling seasons are not eligible for relief.

(2) Slots granted historic precedence for subsequent seasons based on this relief are not eligible for transfer if the slot holder ceases all operations at the airport.

Issued in Washington, DC, on November 13, 2024.
Daniel J. Murphy,
Acting Vice President, System Operations Services.

[FR Doc. 2024-26820 Filed 11-18-24; 11:15 am]

BILLING CODE 4910-13-P